DEPARTMENT OF HOUSING AND URBAN DEVELOPMENT

[Docket No. FR-5076-D-14]

Order of Succession for the Office of Community Planning and Development

AGENCY: Office of the Assistant Secretary for Community Planning and Development, HUD.

ACTION: Notice of order of succession.

SUMMARY: In this notice, the Assistant Secretary for Community Planning and Development (Assistant Secretary) designates the Order of Succession for the Office of Community Planning and Development. This Order of Succession supersedes the Order of Succession for the Assistant Secretary for Community Planning and Development, published on August 22, 2000.

Effective Date: September 8, 2006.

FOR FURTHER INFORMATION CONTACT: Karen E. Daly, Director, Office of Policy Development and Coordination, Office of Community Planning and Development, Department of Housing and Urban Development, 451 Seventh Street, SW., Room 7240, Washington, DC 20410, (202) 708-1817. (This is not a toll-free number.) This number may be accessed via TTY by calling the Federal Information Relay Service at (800) 877-8339 (toll-free).

SUPPLEMENTARY INFORMATION: The Assistant Secretary issuing this Order of Succession of officials authorized to perform the functions and duties of the Office of the Assistant Secretary for Community Planning and Development when, by reason of absence, disability, or vacancy in office, the Assistant Secretary is not available to exercise the powers or perform the duties of the office. This Order of Succession is subject to the provisions of the Federal Vacancies Reform Act of 1998 (5 U.S.C. 3345-3349d). This publication supersedes the Order of Succession notice of August 22, 2000 (65 FR 51014).

Accordingly, the Assistant Secretary designates the following Order of Succession:

Section A. Order of Succession

Subject to the provisions of the Federal Vacancies Reform Act of 1998, during any period when, by reason of absence, disability, or vacancy in office, the Assistant Secretary is not available to exercise the powers or perform the duties of the Office of Assistant Secretary for Community Planning and Development, the following officials within the Office of Community Planning and Development are hereby designated to exercise the powers and perform the duties of the Office:

(1) General Deputy Assistant Secretary;

(2) Deputy Assistant Secretary for Operations;

(3) Deputy Assistant Secretary for Special Needs;

(4) Deputy Assistant Secretary for Grants Programs;

These officials shall perform the functions and duties of the Office in the order specified herein, and no official shall serve unless all the other officials, whose position titles precede his/hers in this order, are unable to act by reason of absence, disability, or vacancy in office.

Section B. Authority Superseded

This Order of Succession supersedes the Order of Succession for the Assistant Secretary for Community Planning and Development, published at 65 FR 51014 (August 22, 2000).

Authority: Section 7(d), Department of Housing and Urban Development Act, 42 U.S.C. 3535(d).

Dated: September 8, 2006.
Pamela H. Patenaude,
Assistant Secretary for Community Planning and Development.

[FR Doc. E6-17044 Filed 10-17-06; 8:45 am]

BILLING CODE 4210-67-P